FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 40901 of the Shipping Act of 1984 (46 U.S.C. 40101). Notice is also hereby given of the filing of applications to amend an existing OTI license or the Qualifying Individual (QI) for a license.

Interested persons may contact the Office of Transportation Intermediaries, Federal Maritime Commission, Washington, DC 20573, by telephone at (202) 523-5843 or by email at OTI@fmc.gov.

Bellcom, Inc. (NVO), 503 Commerce Park Drive, Suite E, Marietta, GA 30060. Officers: Cornelius U. Odinjor, President/CEO (Qualifying Individual). Alero A. Odinjor, Secretary. Application Type: New NVO License.

Benchmark Worldwide Logistics, Inc. dba Star Ocean Lines (NVO & OFF), 24900 South Route 53, Elwood, IL 60421. Officers: Melinda Dunsmoor, Vice President (Qualifying Individual). Cynthia J. McDonald, President. Application Type: QI Change.

Freight Logistics Services USA Forwarding Ltd (OFF), 15955 W. Hardy Street, #222, Houston, TX 77060. Officer: Paul M. Garcia, Managing Member (Qualifying Individual). Application Type: Name Change.

Global Atlantic Logistics LLC (OFF), 1901 SW 31st Avenue, Pembroke Park, FL 33009. Officer: Jeff Lelchuk, Managing Member (Qualifying Individual). Application Type: New OFF License.

Gold Cargo Freight, Corp (NVO & OFF), 8233 NW. 68th Street, Miami, FL 33166. Officers: Jorge A. Troconis, President (Qualifying Individual), Rossana Troconis, Director. Application Type: Add OFF Service.

Golden Bridge International, Inc. (NVO & OFF), 17800 Castleton Street, #263, City of Industry, CA 91748. Officers: Jin Zhao, President (Qualifying Individual). Qishn Shi, CFO. Application Type: Add OFF Service.

Griffin Transport Services, Inc. dba Legacy Supply Chain Services (NVO & OFF), 5360 Capital Ct., #100, Reno, NV 89502. Officers: Russ P. Romine, President (Qualifying Individual). Ron Cain, CEO. Application Type: Trade Name Change and QI Change.

Intell SCM, LLC dba AWA Lines dba Island Cargo Support (NVO), 12911 Simms Avenue, Hawthorne, CA 90250. Officer: Andrew P. Scott, Manager (Qualifying Individual). Application Type: Trade Name Change.

Khan Energy Corporation dba Khan Logistics (NVO), 3340 Greens Road Bldg. C, #200, Houston, TX 77032. Officers: Joohyun Craig, Secretary (Qualifying Individual). Daniel Seo, President/Treasurer. Application Type: New NVO License.

Leeway Solution, Inc. (NVO & OFF), 3529 NW 82nd Avenue, Doral, FL 33122. Officers: Juan C. Vega, Vice President/Treasurer (Qualifying Individual). Maria A. Cadena, President/Secretary. Application Type: New NVO & OFF License.

Prana International Inc. (NVO & OFF), 4842 SW 144th CT., Miami, FL 33175. Officer: Jorge Lacayo,President/Secretary (Qualifying Individual). Application Type: Add OFF Service.

Pudong Prime Int'l Logistics, Inc. (NVO), 9660 Flair Drive, Suite 488, EL Monte, CA 91731. Officers: Jian Wang, President (Qualifying Individual). Huaihai Dong, Secretary. Application Type: New NVO License.

RD International Forwarder Corp. (NVO), Amelia Industrial Park, Lot C, Guaynabo, PR 00969. Officers: Rebeca Negron, President (Qualifying Individual). Daniel Freire, Vice President. Application Type: New NVO License.

Yujinco, Inc. dba MOA Express USA (NVO), 24646 Maple Lane, Harbor City, CA 90710. Officers: Byung Chan Lee, Chief Financial Officer/Secretary (Qualifying Individual). Jin Hyang Lee, CEO/President. Application Type: New NVO License.

Dated: June 22, 2012.
Karen V. Gregory,
Secretary.

[FR Doc. 2012-15703 Filed 6-26-12; 8:45 am]

BILLING CODE 6730-01-P